DEPARTMENT OF ENERGY

Federal Energy Regulatory Commission

[Docket No. RP03-56-001]

Guardian Pipeline, L.L.C.; Notice of Compliance Filing

December 26, 2002.

Take notice that on December 20, 2002, Guardian Pipeline, L.L.C. (Guardian), tendered for filing as part of its FERC Gas Tariff, Original Volume No. 1, the revised tariff sheets as listed in Appendix A attached to the filing, to be effective December 1, 2002.

Guardian states that in the Order issued November 29, 2002, the Commission, inter alia, accepted, subject to certain modifications, tariff sheets filed by Guardian on October 31, 2002, in Docket No. RP03-56-000 to implement an interruptible park and loan service under new Rate Schedule PAL and an enhanced aggregation and wheeling service under new Rate Schedule EAW. Guardian states that the Commission accepted those tariff sheets filed in Docket No. RP03-56-000 effective December 1, 2002, subject to Guardian making a compliance filing within thirty (30) days of the date of the Order. Guardian states that this filing is intended to comply with the directives set forth in the Order with respect to Docket No. RP03-56-000.

Guardian states that copies of this tariff filing are being served on its shippers, the Wisconsin and Illinois public service commissions and parties to this docket.

Any person desiring to protest said filing should file a protest with the Federal Energy Regulatory Commission, 888 First Street, NE., Washington, DC 20426, in accordance with Section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: January 2, 2003.
Linwood A. Watson, Jr.,
Deputy Secretary.

[FR Doc. 02-33070 Filed 12-31-02; 8:45 am]

BILLING CODE 6717-01-P